DEPARTMENT OF DEFENSE

Department of the Army

Availability of the Record of Decision (ROD) for the Permanent Stationing of the 2/25th Stryker Brigade Combat Team (SBCT)

AGENCY: Department of the Army, DoD.

ACTION: Notice of availability.

SUMMARY: The Deputy Chief of Staff of the Army, G-3/5/7 has reviewed the Final Environmental Impact Statement (FEIS) for the Permanent Stationing of the 2/25th SBCT and has made the decision to proceed with all facets of Alternative A. Alternative A permanently stations the 2/25th SBCT at Schofield Barracks Military Reservation (SBMR) while conducting the required training at military training sites in Hawaii. This alternative is summarized in the Army's ROD and described fully in Chapter 2 of the FEIS.

ADDRESSES: The ROD can be accessed at http://www.aec.army.mil.

FOR FURTHER INFORMATION CONTACT: Public Affairs Office, U.S. Army Environmental Command, Building E4460, 5179 Hoadley Road, Attention: IMAE-PA, Aberdeen Proving Ground, MD 21010-5401; telephone: 410-436-2556; facsimile: (410) 436-1693. The Public Affairs Office is open during normal business hours Monday through Friday 9 a.m. to 5 p.m. Eastern time.

SUPPLEMENTARY INFORMATION: The FEIS assessed the potential environmental consequences of the alternatives on the biological, physical, and cultural environments. This decision incorporates analyses contained in the FEIS, comments provided during formal public comment and review periods, and an evaluation of the ability of each alternative to meet the Purpose and Need for the Proposed Action. Hawaii was selected primarily because it is best able to meet the Army's strategic defense and national security needs in the Pacific Theater. A fuller rationale for the decision can be found in the Record of Decision.

Dated: April 11, 2008.
Addison D. Davis, IV,
Deputy Assistant Secretary of the Army (Environment, Safety, and Occupational Health).

[FR Doc. E8-8296 Filed 4-17-08; 8:45 am]

BILLING CODE 3710-08-M